DEPARTMENT OF AGRICULTURE

Forest Service

Southern Recreation Resource Advisory Committee

AGENCY: Forest Service, USDA.

ACTION: Notice of request for nominations for the Southern Region Recreation Resource Advisory Committee.

SUMMARY: Nominations are being sought for certain positions to serve on the Recreation Resource Advisory Committee (Recreation RAC) operating in the Southern Region of the Forest Service. New members will be appointed by the Secretary of Agriculture (Secretary) and serve three-year terms. Appointments will begin in February 2009 when current member appointments expire.

One member is being sought to represent each of the following interests: (1) Camping; (2) Motorized Recreation; (3) Hunting/Fishing; (4) Outfitters/Guides #1; (5) Outfitters/Guides #2; (6) Affected Indian Tribes; and (7) Affected Local Governments.

The public is invited to submit nominations for membership on the Recreation RAC. Current members who have only served one term may also apply. Application packets for Recreation RACs can be obtained on the Web at http://www.fs.fed.us/passespermits/rrac-application.shtml or by e-mailing: r8_rrac@fs.fed.us. Interested parties may also contact Caroline Mitchell, U.S. Forest Service, PO Box 1270, Hot Springs, AR 71902 (501-321-5318).

All nominations must consist of a completed application packet that includes background information and other information that addresses a nominee's qualifications.

DATES: All applications must be received by the appropriate office listed below on or before September 30, 2008. This timeframe may be extended if officials do not receive applications for needed positions.

ADDRESSES: Interested persons may submit nominations to the Southern Region Recreation RAC by U.S. Mail: C. Mitchell, Ouachita National Forest, PO Box1270, Hot Springs, AR 71902, or Express Delivery: C. Mitchell, Ouachita National Forest, 100 Reserve Street, Hot Springs, AR 71901.

FOR FURTHER INFORMATION: Anyone wanting further information regarding this request for nominations may contact the designated federal official: Cheryl Chatham, Recreation RAC DFO, PO Box 1270, Hot Springs, AR 71902 (501-321-5277).

SUPPLEMENTARY INFORMATION:

Background

The Federal Lands Recreation Enhancement Act (REA), signed December 2004, requires that the Forest Service and the Bureau of Land Management (BLM) provide Recreation RACs with an opportunity to make recommendations to the two agencies on certain types of proposed recreation fee changes.

REA allows the agencies to use existing advisory councils, such as BLM Resource Advisory Councils (RACs), or to establish new committees as appropriate. The Forest Service and BLM elected to jointly use existing BLM RACs in the states of Arizona, Idaho, the Dakotas, Montana, Nevada, New Mexico, and Utah. In 2006, the Forest Service chartered new Recreation RACs for the states of California and Colorado, and for the Forest Service Pacific Northwest, Eastern and Southern Regions. The Forest Service is using an existing advisory board for the Black Hills National Forest in South Dakota.

In addition, the Governors of three states—Alaska, Nebraska and Wyoming—requested that their State be exempt from the REA-R/RAC requirement, and the two Departments concurred with the exemptions.

Members were appointed to the Southern Recreation RAC in February 2007 for either two year or three-year terms. The terms for the two-year members will expire February 2009.

The Recreation RACs provide recreation fee recommendations to both the Forest Service and the Bureau of Land Management (BLM). These committees make recreation fee program recommendations on implementing or eliminating standard amenity fees; expanded amenity fees; and noncommercial, individual special recreation permit fees; expanding or limiting the recreation fee program; and fee-level changes.

Recreation RAC Composition

Each Recreation RAC consists of 11 members appointed by the Secretary. REA provided flexibility to modify the specified membership of the RAC “as appropriate” to ensure a fair and balanced representation of recreation interests. Due to climate conditions in the Southern Region, the Region does not have a winter sports program. Therefore, the categories of winter motorized recreation and winter non-motorized recreation were replaced with (1) camping and (2) wildlife viewing/visiting interpretive sites. In addition, as the region has very few motorized outfitters and guides, they have two positions representing non-motorized outfitter and guides. The positions are as follows:

(1) Five persons who represent recreation users and that include, as appropriate, the following:

a. Camping interests;

b. Day-use interests, such as wildlife viewing and interpretive centers;

c. Summer motorized recreation, such as motorcycles, boats, and off-highway vehicles;

d. Summer non-motorized recreation, such as backpacking, horseback riding, mountain biking, canoeing, and rafting; and

e. Hunting and fishing;

(2) Three persons who represent interest groups that include, as appropriate, the following:

a. Non-motorized outfitters and guides-position one;

b. Non-motorized outfitters and guides-position two; and

c. Local environmental groups.

(3) Three persons, as follows:

a. State tourism official to represent the state;

b. A person who represents affected Indian tribes; and

c. A person who represents affected local government interests.

Nomination Information

Any individual or organization may nominate one or more qualified persons to represent the interests listed above to serve on the Recreation RAC. To be considered for membership, nominees must:

• Identify what interest group they would represent and how they are qualified to represent that group;

• State why they want to serve on the committee and what they can contribute;

• Show their past experience in working successfully as part of a collaborative group; and

• Complete Form AD-755, Advisory Committee or Research and Promotion Background Information.

Letters of recommendation are welcome, but not required. Individuals may also nominate themselves. Nominees do not need to live in a state within a particular Recreation RAC's area of jurisdiction nor live in a state in which Forest Service-managed lands are located.

Application packets, including evaluation criteria and the AD-755 form, are available at http://www.fs.fed.us/passespermits/rrac-application.shtml or by contacting the Southern Region as identified in this notice. Nominees must submit all documents to the appropriate regional contact. Additional information about recreation fees and REA is available at http://www.fs.fed.us/passespermits/about-rec-fees.shtml.

The Forest Service will also work with Governors and county officials to identify potential nominees.

The Forest Service will review the applications and prepare a list of qualified applicants from which the Secretary shall appoint both members and alternates. An alternate will become a participating member of the Recreation RACs only if the member for whom the alternate is appointed to replace leaves the committee permanently.

Recreation RAC members serve without pay but are reimbursed for travel and per diem expenses for regularly scheduled committee meetings. All Recreation RAC meetings are open to the public and an open public forum is part of each meeting. Meeting dates and times will be determined by agency officials in consultation with the Recreation RAC members.

Dated: July 29, 2008.
Cheryl Chatham,
Designated Federal Official.

[FR Doc. E8-17783 Filed 8-4-08; 8:45 am]

BILLING CODE 3410-11-M